DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 19, 2003.

Title, Form Number, and OMB Number: Acquisition Management Systems and Data Requirements Control List (AMSDL); Numerous Forms; OMB Control Number: 0704-0188.

Type of Request: Reinstatement.

Number of Respondents: 921.

Responses per Respondent: 1.

Annual Responses: 397,872.

Average Burden per Response: 66 hours.

Annual Burden Hours: 26,259,552 hours.

Needs and Uses: The Acquisition Management Systems and Data Requirements Control List (AMSDL) is a list of data requirements used in DoD contracts. This information is contained in DoD contracts for supplies, services, hardware, and software. The information collected from the public, DoD contractors, is necessary for DoD to support the design, test, manufacture, training, operation, and maintenance of procured items.

Affected Public: Business or Other For-Profit; Not-For-Profit Institutions.

Frequency: On Occasion.

Respondents Obligation: Required to obtain or retain benefits.

OMB Desk Officer: Ms. Jacqueline Zeiher.

Written comments and recommendations on the proposed information collection should be sent to Ms. Zieher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: April 10, 2003.
Patricia L. Toppings,
Alternate OSD Federal Register, Liaison Officer, Department of Defense.

[FR Doc. 03-9455 Filed 4-16-03; 8:45 am]

BILLING CODE 5001-08-M